DEPARTMENT OF THE INTERIOR

National Park Service

Notice of Availability of a Draft Environmental Impact Statement for the Selma to Montgomery National Historic Trail Comprehensive Management Plan

AGENCY: National Park Service, Interior.

ACTION: Notice of availability.

SUMMARY: Pursuant to section 102(2)(c) of the National Environmental Policy Act of 1969 (16 U.S.C. 410ccc-4; 42 U.S.C. 4371; 40 CFR 1506.6) the National Park Service announces the availability of a Draft Environmental Impact Statement (DEIS) for the Selma to Montgomery National Historic Trail Comprehensive Management Plan. The document provides a framework for the management, use, and development of the trail by the National Park Service and its partners over the next 15 to 20 years. The document describes four management alternatives for consideration, including a no-action alternative, and analyzes the environmental impacts of those alternatives. Beginning at Brown Chapel AME Church in Selma, Alabama, the trail follows the route of the March 1965 Selma to Montgomery voting rights march, traveling through Lowndes County along U.S. Highway 80, and ending at the Alabama State Capitol in Montgomery.

DATES: There will be a 60-day comment period beginning with the Environmental Protection Agency's publication of its notice of availability in the Federal Register.

ADDRESSES: Copies of the DEIS are available by contacting John Barrett, National Park Service, 100 Alabama St., SW., Atlanta, GA 30303. An electronic copy of the DEIS is available on the Internet at http://www.nps.gov/sero/planning.

SUPPLEMENTARY INFORMATION: The National Park Service held community and stakeholder meetings to gather advice and feedback on desired outcomes of the management plan. The meetings assisted the National Park Service in developing alternatives for managing associated cultural and natural resources and creating interpretive and educational programs. Responses from the meetings were incorporated into the alternatives described in the plan. Alternative A focuses on the story of the voting rights march as defined by events that occurred between held between March 7 and March 25, 1965, in Dallas, Lowndes, and Montgomery counties, Alabama. Alternative B builds on the story of Alternative A, providing information on the broader efforts to gain voting rights for African Americans, as events unfolded in Dallas, Lowndes, and Montgomery counties. Under this alternative, exhibits and other interpretive materials would explain earlier organizing and protest activities, the voting rights march, and the aftermath of the march. Alternative C adds to the stories of Alternatives A and B by interpreting the progression of citizenship rights in the United States. This alternative tells the story of African American efforts to gain voting rights in the larger context of the Modern Civil Rights Movement. This alternative would emphasize that the Selma to Montgomery Voting Rights March was an integral part of America's evolving commitment to greater equality and a stronger democracy. The National Park Service has identified Alternative C as the preferred alternative.

It is the practice of the National Park Service to make comments, including names and home addresses of respondents, available for public review during regular business hours. Anonymous comments will not be considered. We will make all submissions from organizations or businesses, and from individuals identifying themselves as representatives or officials of organizations or businesses, available for public inspection in their entirety. However, individual respondents may request that we withhold their names and addresses from the public record, and we will honor such requests to the extent allowed by law. If you wish to withhold your name and/or address, you must state that request prominently at the beginning of your comment.

FOR FURTHER INFORMATION CONTACT: Catherine Light, (334) 727-6390 or John Barrett, (404) 562-3124, extension 637.

The responsible official for this draft Environmental Impact Statement is Patricia A. Hooks, Regional Director, Southeast Region, National Park Service, 100 Alabama Street SW., 1924 Building, Atlanta, Georgia 30303.

Dated: June 27, 2004.
Patricia A. Hooks,
Regional Director, Southeast Region.

[FR Doc. 04-17583 Filed 8-2-04; 8:45 am]

BILLING CODE 4312-52-P